NATIONAL WOMEN'S BUSINESS COUNCIL

Federal Register Meeting Notice; Quarterly Public Meeting

AGENCY: National Women's Business Council.

ACTION: Notice of open public meeting.

DATES: The Public Meeting teleconference will be held on Wednesday, August 9, 2017 from 2:30 p.m. to 3:00 p.m. EST.

ADDRESSES: The meeting will be held via teleconference.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 4th Quarter meeting for Fiscal Year 2017. The online meeting will open with remarks from Council Chairwoman, Carla Harris, providing updates on research projects. Time will be reserved at the end for audience participants to address Council Members directly with questions, comments, or feedback.

FOR FURTHER INFORMATION CONTACT: The meeting is open to the public; however advance notice of attendance is requested. To RSVP and confirm attendance, the general public should email info@nwbc.gov with subject line—“RSVP for 8/9/17 Public Meeting”. Anyone wishing to make a presentation to the NWBC at this meeting must contact Cristina Flores, Associate Director of Public Affairs at info@nwbc.gov, 202-205-6827.

For more information, please visit the National Women's Business Council Web site at www.nwbc.gov.

Dated: July 25, 2017.
Richard Kingan,
SBA Committee Management Officer.

[FR Doc. 2017-16629 Filed 8-7-17; 8:45 am]

BILLING CODE P